DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Bureau of Primary Health Care (BPHC) Uniform Data System (OMB No. 0915-0193—Revision)

The Uniform Data System (UDS) contains the annual reporting requirements for the cluster of primary care grantees funded by the Health Resources and Services Administration (HRSA). The UDS includes reporting requirements for grantees of the following primary care programs: Community Health Centers, Migrant Health Centers, Health Care for the Homeless, and Public Housing Primary Care. The authorizing statute is section 330 of the Public Health Service Act, as amended.

HRSA collects data in the UDS which are used to ensure compliance with legislative and regulatory requirements, to improve health center performance and operations, and to report overall program accomplishments. To meet these objectives, BPHC requires a core set of data collected annually that is appropriate for monitoring and evaluating performance and reporting on annual trends. The UDS data collection for 2012 will be revised in three ways. A new table will be added to collect tenure data for certain types of health center clinical and administrative staff. Three clinical measures will be added that are consistent with identified national priorities. These new measures are included in the UDS data collection request in order to allow advance time for health centers to change data collection systems. Finally, a few new questions will be asked about health center Electronic Health Record reporting capabilities.

These changes reflect an increase in burden of hours over the previous information collection request in 2010. The burden is increased due to additional hours for reporting the new information. The annual estimate of burden is as follows:

Type of report | Number of respondents | Responses per respondent | Hours per response | Total burden hours
Universal report | 1,181 | 1 | 82 | 96,842
Grant report | 328 | 1 | 18 | 5,904
Total | 1,509 |  |  | 102,746

E-mail comments to paperwork@hrsa.gov or mail the HRSA Reports Clearance Officer, Room 10-33, Parklawn Building, 5600 Fishers Lane, Rockville, MD 20857. Written comments should be received within 60 days of this notice.

Dated: June 14, 2011.
Reva Harris,
Acting Director, Division of Policy and Information Coordination.

[FR Doc. 2011-15194 Filed 6-17-11; 8:45 am]

BILLING CODE 4165-15-P